ENVIRONMENTAL PROTECTION AGENCY

[FRL-9679-4]

Establishment of the Great Lakes Advisory Board (GLAB)

AGENCY: Environmental Protection Agency (EPA).

ACTION: Notice; establishment of a Federal Advisory Committee.

SUMMARY: As required by section 9(a)(2) of the Federal Advisory Committee Act, we are giving notice that EPA is establishing the Great Lakes Advisory Board (GLAB). The purpose of the GLAB is to provide advice to the Administrator in her capacity as Chair of the Inter-Agency Task Force established per Executive Order 13340 (May 18, 2004), on matters related to Great Lakes restoration and protection. The major objectives will be to provide advice and recommendations on: Great Lakes protection and restoration policy; long term goals and objectives for Great Lakes protection and restoration; and annual priorities to protect and restore the Great Lakes that may be used to help inform budget decisions.

EPA has determined that this federal advisory committee is in the public interest and will assist the EPA in performing its duties and responsibilities. Copies of the GLAB's charter will be filed with the appropriate congressional committees and the Library of Congress.

FOR FURTHER INFORMATION CONTACT: Rita Cestaric, U.S. Environmental Protection Agency, 77 W. Jackson, Chicago, IL 60604, Email address: cestaric.rita@epa.gov, Telephone number: (312) 886-6815.

SUPPLEMENTARY INFORMATION: The GLAB will be composed of approximately fifteen (15) members who will serve as representative members, Regular Government Employees (RGEs), or Special Government Employees (SGEs). The GLAB expects to meet in person or by electronic means (e.g., telephone, videoconference, webcast, etc.) approximately two (2) times a year, or as needed and approved by the Designated Federal Officer (DFO). Meetings will be held in the Great Lakes region and Washington, DC. The GLAB will be examined annually and will exist until the EPA determines that the GLAB is no longer needed. The charter will be in effect for two years from the date it is filed with Congress. After the initial two-year period, the charter may be renewed as authorized in accordance with Section 14 of FACA (5 U.S.C. App. 2 § 14).

Membership: Nominations for membership will be solicited through the Federal Register and other sources. In selecting members, EPA will consider candidates representing a broad range of interests relating to the Great Lakes, including, but not limited to, environmental groups, business, agricultural groups, citizen groups, environmental justice groups, foundations, academia and state, local and tribal governments. In selecting members, EPA will consider the differing perspectives and breadth of collective experience needed to address the EPA's charge.

Dated: May 17, 2012.
Susan Hedman,
Great Lakes National Program Manager.

[FR Doc. 2012-13186 Filed 5-30-12; 8:45 am]

BILLING CODE 6560-50-P